DEPARTMENT OF TRANSPORTATION

Federal Railroad Administration

[Docket No. FRA-2017-0002-N-20]

Proposed Agency Information Collection Activities; Comment Request

AGENCY: Federal Railroad Administration (FRA), Department of Transportation (DOT).

ACTION: Notice and comment request.

SUMMARY: Under the Paperwork Reduction Act of 1995 (PRA), this notice announces that FRA is forwarding the renewal Information Collection Requests (ICRs) abstracted below to the Office of Management and Budget (OMB) for review and comment. The ICRs describe the information collections and their expected burden. On March 14, 2017, FRA published a notice providing a 60-day period for public comment on the ICRs.

DATES: Comments must be submitted on or before August 14, 2017.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (Telephone: (202) 493-6292); or Ms. Kim Toone, Information Collection Clearance Officer, Office of Administration, Office of Information Technology, RAD-20, Federal Railroad Administration, 1200 New Jersey Avenue SE., Mail Stop 35, Washington, DC 20590 (Telephone: (202) 493-6132). These telephone numbers are not toll free.

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.12. On March 14, 2017, FRA published a 60-day notice in the Federal Register soliciting comment on the ICRs for which it is now seeking OMB approval. See 82 FR 13711. FRA received no comments in response to this notice.

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the ICRs and their expected burden. FRA is submitting the renewal requests for clearance by OMB as the PRA requires.

Title: Hours of Service Regulations.

OMB Control Number: 2130-0005.

Abstract: FRA's hours of service recordkeeping regulations (49 CFR part 228, subpart F), include substantive hours of service requirements and recordkeeping and reporting requirements for train employees (i.e., locomotive engineers and conductors) providing commuter and intercity rail passenger transportation (e.g., maximum on-duty periods, minimum off-duty periods, requirements to keep hours of service records and report excessive service). The regulations require railroads to evaluate work schedules for risk of employee fatigue and implement measures to mitigate the risk, and to submit to FRA for approval the relevant schedules and fatigue mitigation plans. These requirements were mandated by the Rail Safety Improvement Act of 2008 (Pub. L. 110-432, Division A). FRA uses the information collected under this rule to ensure compliance with the requirements of the regulation. FRA uses the information collected to verify that train employees of commuter and intercity passenger railroads do not exceed maximum on-duty periods, abide by minimum off-duty periods, and adhere to other limitations in this regulation, to enhance rail safety and reduce the risk of accidents/incidents caused or contributed to by, train employee fatigue.

Type of Request: Extension without change of a current information collection.

Affected Public: Businesses (railroads and signal contractors).

Form(s): FRA F 6180.3.

Total Estimated Annual Responses: 27,687,317.

Total Estimated Annual Burden: 3,514,805 hours.

Title: Reflectorization of Freight Rolling Stock.

OMB Control Number: 2130-0566.

Abstract: This regulation (49 CFR part 224) requires the reflectorization of freight rolling stock (using retroreflective material on freight cars and locomotives) to enhance the visibility of trains to reduce the number and severity of accidents at highway-rail grade crossings where visibility is a contributing factor. FRA uses the information collected to verify that the person responsible for the car reporting mark is notified after the required inspection when the freight equipment has less than 80 percent of the required retroreflective sheeting present, undamaged, and unobscured. Further, FRA uses the information collected to verify that the required locomotive records of retroreflective sheeting defects found after inspection are kept in the locomotive cab or in a railroad accessible electronic database FRA can access upon request. Finally, FRA uses the information collected to confirm that railroads/car owners meet the minimum requirements for the inspection and maintenance of the mandated retroreflective material. The total estimated annual responses and estimated annual burden hours associated with this ICR have been modified since the publication of FRA's first required notice under the PRA. The estimates in this notice are corrections to accurately account for inspection and maintenance requirements and the time required for railroads to notify car owners of the condition of the required retroreflective material.

Type of Request: Revision of a current information collection.

Affected Public: Businesses (railroads and car owners).

Form(s): FRA F 6180.113.

Total Estimated Annual Responses: 34,675.

Total Estimated Annual Burden: 8,467 hours.

Title: Railroad Safety Appliance Standards.

OMB Control Number: 2130-0594.

Abstract: FRA amended 49 CFR part 231 (Railroad Safety Appliance Standards) on April 28, 2011 to add new procedures for approval or modification of safety appliances (§§ 231.33 and 231.35). See 76 FR 23714. FRA intended the amendments to promote the safe placement and securement of safety appliances on rail equipment by establishing a process for the review and approval of existing industry standards. This process permits railroad industry representatives to request approval of existing industry standards for the safety appliance arrangements on newly constructed railroad cars, locomotives, tenders, or other rail vehicles, in lieu of the provisions in 49 CFR part 231. This special approval process enhances railroad safety by allowing FRA to consider technological advancements and ergonomic design standards for new car construction. It ensures that new rail equipment complies with applicable statutory and safety-critical regulatory requirements related to safety appliances while providing the flexibility to efficiently address safety appliance requirements on new designs for railroad cars, locomotives, tenders, or other rail vehicles. FRA uses the information collected under this regulation to better adapt to changes in new rail car design while ensuring the safety-appliance arrangements on new cars meet the applicable statutory requirements and are safe. In this renewal submission, FRA is requesting an extension with change due to revised agency estimates.

Type of Request: Extension with change of a current information collection.

Affected Public: Railroads, Labor Unions/General Public.

Form(s): N/A.

Total Estimated Annual Responses: 7,190.

Total Estimated Annual Burden: 35,107 hours.

Addressee: Send comments regarding these information collections to the Office of Information and Regulatory Affairs, Office of Management and Budget, 725 17th Street NW., Washington, DC 20503, Attention: FRA Desk Officer. Comments may also be sent via email to OMB at the following address: oira_submissions@omb.eop.gov.

Comments are invited on the following: Whether the proposed collections of information are necessary for DOT to properly perform its functions, including whether the information will have practical utility; the accuracy of DOT's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Sarah L. Inderbitzin,
Acting Chief Counsel.

[FR Doc. 2017-14683 Filed 7-12-17; 8:45 am]

BILLING CODE 4910-06-P